DEPARTMENT OF HEALTH AND HUMAN SERVICES

Administration for Children and Families

Proposed Information Collection Activity; Income Withholding Order/Notice for Support (IWO)

AGENCY: Office of Child Support Enforcement, Administration for Children and Families, HHS.

ACTION: Request for public comment.

SUMMARY: The Administration for Children and Families (ACF) is requesting a three-year extension of the form Income Withholding Order/Notice for Support (IWO) (OMB #0970-0154, expiration 8/31/2020). This request includes minor revisions to the approved forms.

DATES: Comments due within 60 days of publication. In compliance with the requirements of Section 3506(c)(2)(A) of the Paperwork Reduction Act of 1995, the Administration for Children and Families is soliciting public comment on the specific aspects of the information collection described above.

ADDRESSES: Copies of the proposed collection of information can be obtained and comments may be forwarded by emailing infocollection@acf.hhs.gov. Alternatively, copies can also be obtained by writing to the Administration for Children and Families, Office of Planning, Research and Evaluation, 330 C Street SW, Washington, DC 20201, Attn: ACF Reports Clearance Officer. All requests, emailed or written, should be identified by the title of the information collection.

SUPPLEMENTARY INFORMATION: Description: The IWO is the standard form that must be used to order and notify employers and income providers to withhold child support payments from an obligor's income. It also indicates where employers and other income providers must remit the payments and other information needed to withhold correctly.

Child support agencies, courts, private attorneys, custodial parties, and others must use the IWO form to initiate an income withholding order for support and give notice of income withholding. State child support agencies are required to have automated data processing systems containing current order and case information. State child support agencies providing services to custodial and/or noncustodial parties enter the terms of a child support order established by a tribunal into the state's automated system, which automatically populates the order information into the IWO form.

Employers and income providers also use the form to respond to the order/notice with termination or income status information. Employers and other income providers may choose to receive the IWO form from child support agencies on paper or electronically, and may respond on paper or electronically to notify the sender of termination of employment or change in the income status.

The information collection activities pertaining to the IWO form are authorized by 42 U.S.C. 666(a)(1), (a)(8), and 666(b)(6), which require the use of the IWO form to order income withholding for all child support orders.

The IWO form and instructions include these proposed changes:

1. Changed effective date from a calendar date to a text entry. This clarifies that IWOs are effective on either the date of mailing, receipt, or service to the employer.

2. Added a textbox in Remittance Information regarding payments in interstate cases.

3. Simplified and consolidated wording of required advices to employers and moved some of them from Additional Information into Remittance Information.

4. Moved a link to the Child Support Portal within Additional Information to Lump Sum Payments and added one to Notice of Employment Termination or Income Status.

Respondents: Courts, private attorneys, custodial parties or their representatives, employers, and other parties that provide income to noncustodial parents.

Annual Burden Estimates
Instrument | Total number of respondents | Number of responses per respondent | Average burden hours per response | Annual burden hours
Income withholding order/notice (courts, private attorneys, custodial parties or their representatives) | 4,091,591 | 1.00 | 5 minutes | 340,966
Income withholding orders/termination of employment/income status (employers and other income providers) | 1,257,639 | 9.07 | 2 minutes | 380,226
Electronic income withholding orders/termination of employment/income status (employers and other income providers) | 17,985 | 101.73 | 30 seconds | 15,247

Estimated Total Annual Burden Hours: 736,439.

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: 42 U.S.C. 666(a)(1),(a)(8), and 666(b)(6).

Mary B. Jones,
ACF/OPRE Certifying Officer.

[FR Doc. 2019-27171 Filed 12-17-19; 8:45 am]

BILLING CODE 4184-41-P